DEPARTMENT OF THE INTERIOR

Bureau of Land Management

[OR-958-1430-ET; HAG-04-0037; WAOR-22434 et al.]

Public Land Order No. 7603; Modification of Secretarial Orders Dated October 9, 1905 and August 13, 1908; Washington

AGENCY: Bureau of Land Management, Interior.

ACTION: Public land order.

SUMMARY: This order modifies two Secretarial orders insofar as they affect 80 acres of public lands withdrawn for the Bureau of Reclamation's Yakima and Chelan Reclamation Projects. This action will open the lands to exchange only.

DATES: Effective Date: May 7, 2004.

FOR FURTHER INFORMATION CONTACT: Charles R. Roy, BLM Oregon/Washington State Office, P.O. Box 2965, Portland, Oregon 97208-2965, 503-808-6189.

SUPPLEMENTARY INFORMATION: The land is no longer needed by the Bureau of Reclamation for reclamation purposes.

Order

By virtue of the authority vested in the Secretary of the Interior by Section 204 of the Federal Land Policy and Management Act of 1976, 43 U.S.C. 1714 (2000), it is ordered as follows:

1. The Secretarial Orders dated October 9, 1905, and August 13, 1908, which withdrew lands for the Bureau of Reclamation's Yakima and Chelan Reclamation Projects, are hereby modified to allow for exchange in accordance with Section 206 of the Federal Land Policy and Management Act of October 21, 1976, as amended, 43 U.S.C. 1716 (2000), insofar as they affect the following described public lands:

Willamette Meridian

T. 14 N., R. 17 E.,

sec. 34, E½E½NE¼.

T. 27 N., R. 23 E.,

sec. 17, NW¼SE¼.

The area described aggregates 80 acres in Yakima and Chelan Counties.

2. The lands described in Paragraph 1 are hereby made available for exchange in accordance with Section 206 of the Federal Land Policy and Management Act of October 21, 1976, 43 U.S.C. 1716 (2000), subject to valid existing rights, the provisions of existing withdrawals, other segregations of record, and the requirements of applicable law.

Dated: April 21, 2004.
Rebecca W. Watson,
Assistant Secretary, Land and Minerals Management.

[FR Doc. 04-10436 Filed 5-6-04; 8:45 am]

BILLING CODE 4310-33-P